DEPARTMENT OF TRANSPORTATION

Federal Transit Administration

Notice of Limitation on Claims Against Proposed Public Transportation Projects

AGENCY: Federal Transit Administration (FTA), DOT.

ACTION: Notice of Limitation on Claims.

SUMMARY: This notice announces final environmental actions taken by the Federal Transit Administration (FTA) for projects in the following locations: City of Aurora and Arapahoe County, CO; Chicago, IL; Birmingham, AL; Sacramento, CA; New York, NY; and King County, WA. The purpose of this notice is to announce publicly the environmental decisions by FTA on the subject projects and to activate the limitation on any claims that may challenge these final environmental actions.

DATES: By this notice, FTA is advising the public of final agency actions subject to Section 139(l) of Title 23, United States Code (U.S.C.). A claim seeking judicial review of the FTA actions announced herein for the listed public transportation project will be barred unless the claim is filed on or before May 23, 2012.

FOR FURTHER INFORMATION CONTACT: Christopher Van Wyk, Attorney-Advisor, Office of Chief Counsel, (202) 366-1733, or Terence Plaskon, Environmental Protection Specialist, Office of Human and Natural Environment, (202) 366-0442. FTA is located at 1200 New Jersey Avenue SE., Washington, DC 20590. Office hours are from 9 a.m. to 5:30 p.m., EST, Monday through Friday, except Federal holidays.

SUPPLEMENTARY INFORMATION: Notice is hereby given that FTA has taken final agency actions by issuing certain approvals for the public transportation projects listed below. The actions on these projects, as well as the laws under which such actions were taken, are described in the documentation issued in connection with the project to comply with the National Environmental Policy Act (NEPA) and in other documents in the FTA administrative record for the projects. Interested parties may contact either the project sponsor or the relevant FTA Regional Office for more information on the project. Contact information for FTA's Regional Offices may be found at http://www.fta.dot.gov.

This notice applies to all FTA decisions on the listed projects as of the issuance date of this notice and all laws under which such actions were taken, including, but not limited to, NEPA [42 U.S.C. 4321-4375], Section 4(f) of the Department of Transportation Act of 1966 [49 U.S.C. 303], Section 106 of the National Historic Preservation Act [16 U.S.C. 470f], and the Clean Air Act [42 U.S.C. 7401-7671q]. This notice does not, however, alter or extend the limitation period of 180 days for challenges of project decisions subject to previous notices published in the Federal Register. The projects and actions that are the subject of this notice are:

1. Project name and location: I-225 Minimum Operable Segment (MOS) Extending Transit Service from the Nine Mile Light Rail Transit Station to Iliff, City of Aurora and Arapahoe County, CO. Project sponsor: Regional Transportation District. Project description: The project will extend light rail transit (LRT) from the current terminus at the existing Nine Mile LRT Station on the Southeast Corridor LRT north and east to the proposed Iliff Station. The Nine Mile to Iliff Station proposed action is a Minimum Operable Segment (MOS) of the full 10.5-mile I-225 LRT corridor. Final agency actions: no use of Section 4(f) resources; Section 106 finding of no adverse effect; project-level air quality conformity; and a Finding of No Significant Impact (FONSI), dated September 2011. Supporting documentation: Environmental Assessment, dated July 2011.

2. Project name and location: Union Pacific North Line Bridge Project, Chicago, IL. Project sponsor: Northeast Illinois Regional Commuter Rail Corporation (Metra). Project description: The project involves replacement of eleven 100-year railroad bridges located between Grace Street and Balmoral Avenue on the north side of Chicago. These bridges will be replaced and some existing railroad tracks will be relocated within the existing right-of-way. Final agency actions: Section 106 finding of no adverse effect; project-level air quality conformity, and Documented Categorical Exclusion. Supporting documentation: Documented Categorical Exclusion, dated September 2011.

3. Project name and location: Birmingham Intermodal Transfer Facility, Phase II, Birmingham, AL. Project sponsor: City of Birmingham. Project description: The project is to construct a new facility housing Amtrak and Greyhound stations and MAX (Metro Area Express, Birmingham-Jefferson County Transit Authority) public transportation offices in conjunction with the expanded MAX bus facility as an integrated, multimodal transportation center. Final agency actions: Section 106 finding of no adverse effect; project-level air quality conformity; and a Finding of No Significant Impact (FONSI), dated September 2011. Supporting documentation: Supplemental Environmental Assessment, September 2011.

4. Project name and location: South Sacramento Corridor Light Rail Project Phase 2 Extension Project Modifications, City of Sacramento, CA. Project sponsor: Sacramento Regional Transit District. Project description: The project extends light rail transit service approximately 4.3 miles south from the South Sacramento Corridor Light Rail Project Phase 1 terminus at Meadowview Road to Cosumnes River College. This finding is on modifications to the previously approved project resulting from refinements to the project's design. Final agency actions: Section 106 finding of no adverse effect; project-level air quality conformity; and a Finding of No Significant Impact (FONSI), dated October 2011. Supporting documentation: Final Environmental Assessment, dated September 2011.

5. Project name and location: Second Avenue Subway, New York, NY. Project sponsor: Metropolitan Transportation Authority. Project description: The Second Avenue Subway project is the phased construction of a new 8.5-mile subway line under Second Avenue in Manhattan from 125th Street to Hanover Square in Lower Manhattan. It includes 16 new stations that will be accessible by persons with disabilities. FTA has agreed to partially fund the first phase of the project, which will run between 105th Street and 62nd Street and will connect to the existing F Line at 63rd Street. Various changes to Phase 1 of the project as well as final design of certain elements of Phase 1 of the project have been evaluated in a number of technical memoranda. Final agency actions: FTA determination that neither a supplemental environmental impact statement nor a supplemental environmental assessment is necessary. Supporting documentation: Technical Memorandum No. 9, assessing the design of one of two ancillary facilities related to the 96th Street Station, dated October 2011.

6. Project name and location: East Link Light Rail Transit Project, King County, WA. Project sponsor: Central Puget Sound Regional Transit Authority (Sound Transit). Project description: The project extends the current light rail system an additional 18 miles from Downtown Seattle to Mercer Island and Bellevue along Interstate 90 (I-90), and then through Bellevue to Overlake and Redmond in the Puget Sound region of Washington State. The project includes 12 stations, four park-and-ride lots, and supporting facilities. The project also includes storage tracks and facilities located just north of the Hospital Station to allow for overnight storage of vehicles and daily startup operations. Final agency actions: Section 4(f) determination; Section 106 finding of no adverse effect; regional and project-level air quality conformity; and Record of Decision, dated November 2011. Supporting documentation: East Link Final Environmental Impact Statement, dated July 2011.

Issued on: November 21, 2011.
Lucy Garliauskas,
Associate Administrator for Planning and Environment, Washington, DC.

[FR Doc. 2011-30366 Filed 11-23-11; 8:45 am]

BILLING CODE P